DEPARTMENT OF THE INTERIOR

Fish and Wildlife Service

[FWS-R1-R-2012-N104; 1265-0000-10137-S3]

Deer Flat National Wildlife Refuge, Canyon, Payette, Owyhee, and Washington Counties, ID, and Malheur County, OR; Draft Comprehensive Conservation Plan and Environmental Impact Statement

AGENCY: Fish and Wildlife Service, Interior.

ACTION: Notice of availability; request for comments.

SUMMARY: We, the U.S. Fish and Wildlife Service (Service), announce the availability of a draft comprehensive conservation plan and environmental impact statement (Draft CCP/EIS) for the Deer Flat National Wildlife Refuge (Refuge, NWR) for public review and comment. In these documents, we describe alternatives, including our preferred alternative, for managing the Refuge for 15 years following approval of the final CCP.

DATES: To ensure consideration, please send your written comments by May 16, 2013.

ADDRESSES: You may submit comments or requests for copies or more information by any of the following methods. You may request hard copies or a CD-ROM of the documents.

Email: deerflat@fws.gov. Include “Deer Flat Refuge draft CCP/EIS” in the subject line of the message.

Fax: Attn: Jennifer Brown-Scott, Refuge Manager, 208-467-1019.

U.S. Mail: Deer Flat National Wildlife Refuge, 13751 Upper Embankment Road, Nampa, ID 83686

In-Person Drop-off, Viewing, or Pickup: Call 208-467-9278 to make an appointment (necessary for viewing/pickup only) during regular business hours at the above address. For more information on locations for viewing or obtaining documents, see Public Availability of Documents under SUPPLEMENTARY INFORMATION.

FOR FURTHER INFORMATION CONTACT: Jennifer Brown-Scott, Refuge Manager, 208-467-9278.

SUPPLEMENTARY INFORMATION:

Introduction

With this notice, we continue the CCP process for Deer Flat NWR. We started this process through a notice published in the Federal Register on July 15, 2010 (Volume 75, Number 135). We now announce the availability of the Draft CCP/EIS, prepared pursuant to the National Wildlife Refuge System Administration Act, as amended, and the National Environmental Policy Act of 1969 (NEPA), as well as other legal mandates and our policies.

Habitat management activities proposed in the Draft CCP/EIS include improving the conditions of wetland, riparian, mudflat, and shrub-steppe habitats, with emphasis on reducing invasive species and reducing disturbance to wildlife and habitats from public use activities through no-wake zones and targeted seasonal closures.

Public-use management actions proposed in the Draft CCP/EIS include expanding and improving trails, signs, and visitor contact facilities for wildlife observation and photography; improving shoreline access for anglers; continuing fishing and hunting coordination with the States; improving information available to all visitors; and reducing illegal activities.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System (Refuge System) that is consistent with sound principles of fish and wildlife management, conservation, legal mandates, and Refuge System policies. In addition to outlining broad management direction on conserving wildlife and their habitats, CCPs identify compatible wildlife-dependent recreational opportunities available to the public, including opportunities for hunting, fishing, wildlife observation and photography, and environmental education and interpretation. We will review and update the CCP at least every 15 years in accordance with the Refuge Administration Act.

Deer Flat NWR encompasses approximately 11,000 acres, primarily in southwest Idaho, but includes a small portion within eastern Oregon. The Refuge was established for the following purpose: “as a refuge and breeding ground for migratory birds and other wildlife” Executive Order 7655, dated July 12, 1937. Additional Refuge lands were acquired, for one or more of the following purposes: “* * * for use as an inviolate sanctuary, or for any other management purpose, for migratory birds” 16 U.S.C. 715d (Migratory Bird Conservation Act); “suitable for—(1) incidental fish and wildlife-oriented recreational development, (2) the protection of natural resources, (3) the conservation of endangered species or threatened species * * *” 16 U.S.C. 460k-1; and “* * * the Secretary * * * may accept and use * * * real * * * property. Such acceptance may be accomplished under the terms and conditions of restrictive covenants imposed by donors * * *” 16 U.S.C. 460k-2 (Refuge Recreation Act (16 U.S.C. 460k—460k-4), as amended).

The Refuge provides important habitat for a variety of wildlife, including nesting western and Clark's grebes, bald eagles, great blue and black-crowned night herons, Canada geese, and osprey; feeding habitat for a variety of shorebirds including Wilson's phalarope, long-billed curlew, long-billed dowitcher, and black-necked stilt; and habitats used during migration for a variety of raptors and passerines. Lake Lowell is the most prominent landscape feature, encompassing nearly 9,000 acres. The open water, emergent beds, mudflats, and riparian-emergent interface produced by the lake are important for many types of wildlife. The upland and riparian habitats on the 104 islands that comprise the Snake River Islands Unit make them important to migrants along the river corridor.

In addition to fulfilling the purposes for which the Refuge was established, the Draft CCP/EIS also provides scientifically-grounded guidance for improving the Refuge's shrub-steppe, riparian, wetland, mudflat, and open water habitats to facilitate long-term conservation of native plants, animals, and migratory birds while providing compatible high-quality public-use programs for hunting, fishing, wildlife observation and photography, and environmental education and interpretation. The Draft CCP/EIS identifies actions to protect and sustain the Refuge's nesting waterbirds, the migratory shorebird populations, and wildlife and habitat diversity.

CCP Alternatives We Are Considering

The Service identified and evaluated four alternatives for managing Deer Flat NWR for the next 15 years, including a No-Action Alternative (Alternative 1). Brief descriptions of the alternatives follow.

Alternative 1 (Status Quo, No-Action Alternative)

Alternative 1 is the no-action alternative required by NEPA. Wildlife and habitat and public use management would continue at current levels as described below.

Management of wildlife and habitat on the Lake Lowell Unit would continue to involve basic population monitoring activities, invasive species control, and limited restoration. Invasive plant control would be conducted by one staff member and volunteers using mechanical, chemical, and biological controls.

A no-wake zone would continue to the southeast of Parking Lot 1 and the entire lake would close for winter migration from October 1 to April 14 each year. No other on-water protection would be provided for wildlife. The emergent vegetation along the shoreline of Lake Lowell, which provides erosion control, nesting habitat for grebes and other birds, foraging habitat for waterfowl and wading birds, as well as forage, nesting and brood rearing habitat for numerous fisheries, would remain unprotected.

Compatible existing public uses would continue and include the six priority wildlife-dependent recreational uses of the NWRS—hunting, fishing, wildlife observation and photography, environmental education and interpretation as well as nonwildlife-dependent activities such as horseback riding, biking, jogging, motorized boating, use of personal watercraft, water skiing, picnicking, and swimming. Under Alternative 1, there are few actions that would alter when, where, or how public uses are allowed to occur within the Refuge. Nearly the entire Refuge would continue to be available for on-trail public recreation, including wildlife observation, photography, jogging, bicycling, on-leash dog walking, and horseback riding. No additional trail or lake access would be provided. Upland and waterfowl hunting would continue to be allowed between Parking Lots 1 and 8, and from the east boundary of Gotts Point to the east boundary of the Leavitt Tract. A youth waterfowl hunt would continue to be hosted in current waterfowl hunt zones. Gotts Point would remain closed to vehicular traffic and limited bank fishing opportunities would exist around the lake. Lake users would continue to participate in numerous surface water recreational activities. The lake would open to boating on April 15 and close on September 30. The current no-wake zone, from Parking Lot 1 east, would remain in place.

Environmental education would continue to be conducted for on- and off-site programs. Public contact with Deer Flat NWR staff would remain limited and intermittent due to the small number of Refuge employees. Opportunities for visitors to obtain additional information while visiting the Refuge would remain largely dependent on kiosks, brochures, and the availability of volunteers.

Management of wildlife and habitats on the Snake River Islands Unit would continue to involve basic population monitoring activities. Because of the logistical difficulties and small staff, limited invasive species control and/or restoration efforts would be conducted on the Snake River islands.

Existing public uses on the islands would continue and include wildlife observation and deer, upland, and waterfowl hunting. The Snake River Islands are open from June 1 to January 31 for off-trail, free-roam activities, including shoreline fishing.

Alternative 2 (Service Preferred)

Alternative 2 would emphasize connecting urban families to nature by providing access to new facilities and programs for a wide range of compatible wildlife-dependent and nonwildlife-dependent recreational activities. Activities would be managed differently than in the status quo alternative to protect wildlife, reduce conflicts between users, and increase safety. Under the Preferred Alternative, fishing access would be promoted and wildlife interpretation would be emphasized and integrated into all visitor activities to increase awareness and understanding of Refuge resources. Under Alternative 2, the Service would protect and enhance habitat throughout the Refuge. We would protect Lake Lowell's shoreline feeding and nesting sites through no-wake zones and seasonal closures. Emphasis would be placed on developing interpretive programs that increase visitors' awareness of the Refuge's purposes and goals, and encourage conservation-oriented activities. Gotts Point would be opened to vehicular traffic upon completion of a cooperative agreement with Canyon County, for increased law enforcement presence. The Preferred Alternative provides protections and enhancements for wildlife not found in the status quo alternative, while still allowing almost all upland and on-water recreational opportunities currently occurring at the Refuge.

In order to provide needed protections for lake-dependent wildlife, management of Lake Lowell under Alternative 2 would include a 200-yard no-wake zone along the south side of the lake between Parking Lots 1 and 8, continuation of the wintering closure from October 1 to April 14 each year, no-wake zones in the Narrows, and an expansion of the no-wake zone in the southeast end to include Gotts Point. Motorized boats would be allowed in the no-wake zones; however, boaters would be allowed to travel at speeds that do not create a wake (generally 5 mph or slower). The Preferred Alternative would also create seasonally closed areas to protect migratory bird species' habitats, such as heron rookeries, eagle nests, and grebe nesting colonies. An increase in habitat enhancement through more intensive and targeted invasive species removal and vegetation manipulation is proposed. Increases in wildlife and habitat research and assessments would be focused on providing a strong scientific base for future management decisions.

Alternative 2 would provide access for a wide range of compatible outdoor recreational activities while putting in place measures (e.g., no-wake zones and seasonal closures) to protect wildlife. Fishing and interpretation would be emphasized to serve a growing urban and diverse population. Public use opportunities would connect people with nature to increase awareness of wildlife conservation.

Under the Preferred Alternative, Refuge staff would emphasize management of the Snake River Islands by increasing wildlife inventory and monitoring efforts and increasing invasive species control (following the Integrated Pest Management Plan) and restoration efforts. Islands management would be prioritized using several factors and managed accordingly. Island closure dates would be adjusted to better protect nesting geese, wading birds, and gulls and terns. An array of management techniques may be used, including prescribed fire and aerial application of herbicide and/or seed.

Compatible existing public uses would continue on the Snake River Islands Unit, including wildlife observation, deer hunting, and hunting for upland species and waterfowl on over 1,200 acres. Most of the Snake River Islands Unit would be open for off-trail, free-roam activities, including shoreline fishing, from June 15 to January 31. Heron and gull-nesting islands (4-6 islands) would be open for off-trail, free-roam activities from July 1 to January 31.

Alternative 3

Alternative 3 would provide additional protection for wildlife not found in the status quo alternative or Alternative 2 while allowing most surface-water recreational activities currently occurring and some of the current upland uses.

To provide additional protections for lake-dependent wildlife, emergent plant beds in Murphy's Neck and from Parking Lot 3 to 8 would be closed to human activity all year. The entire lake would be closed seasonally to protect wintering and migrating birds. All active and historic grebe nesting colony areas would be closed to public use by establishing a 500-yard closure during boating season. There would be a 100-yard seasonal closure to protect shorebird habitat along the shoreline from Murphy's Neck to the Narrows. A 200-yard closed area and a 200-yard no-wake zone would protect emergent beds and wildlife on the south side of the west pool. An increase in habitat enhancement through invasive species removal and vegetation manipulation is proposed. Increases in wildlife and habitat research and assessments would be focused on providing a strong scientific base for future management decisions.

Under Alternative 3, the lake would be open to use from April 15 to September 20 with only no-wake activities allowed in the east pool and wake-causing activities allowed from noon to one hour before sunset in the west pool. To improve the quality of both upland and waterfowl hunting, upland game bird hunting would be allowed only on the east end of the Refuge from the west boundary of the Leavitt Tract to the entrance at Greenhurst Road. A controlled waterfowl hunt (e.g., permit system or sign in/out) would be allowed only on the south side of the lake between Parking Lots 3 and 8 with a 25-shotgun-shell limit. Other wildlife-dependent activities would be allowed concurrent with the upland hunt and on the proposed boardwalk between Parking Lots 3 and 8. However, all trails in the waterfowl hunt area would be closed to the non-hunting public from Parking Lots 3 through 8. The boating season would end on September 20 in order to increase the quality of the youth hunt and reduce the possibility of unsafe hunter/boater interactions. The Refuge would not be open to some activities including horseback riding and dog walking. Bicycling would be allowed on the trail adjacent to the entrance road.

Refuge staff would emphasize management of the Snake River Islands by increasing wildlife inventory and monitoring efforts and increasing invasive species control (following the Integrated Pest Management Plan) and restoration efforts. Islands management would be prioritized using several factors and managed accordingly. Island closure dates would be adjusted to better protect nesting geese, wading birds, and gulls and terns. An array of management techniques may be used including prescribed fire and aerial application of herbicide and/or seed.

Existing public uses would continue on the Snake River Islands and include wildlife observation and deer, upland, and waterfowl hunting on 1,219 acres. Most of the Snake River Islands Unit would be open for off-trail, free-roam activities, including shoreline fishing, from June 15 to January 31. Heron and gull-nesting islands (4-6 islands) would be open for off-trail, free-roam activities from July 1 to January 31.

Overall, Alternative 3 attempts to increase the quality of compatible wildlife-dependent recreation by eliminating horseback riding and dog walking and segregating high-speed boating from wildlife-dependent users. However, a drawback of the no-wake zone changes would be to increase the amount of time it would take wildlife-dependent users to reach high-quality wildlife areas.

Alternative 4

Alternative 4 is the most protective alternative providing wildlife restrictions not found in Alternatives 1-3. To reduce disturbance to feeding and resting wildlife, only boating at no-wake speeds would be allowed on Lake Lowell. All emergent beds and the southeast end of the lake would be closed to public use to protect nesting and feeding waterbirds, waterfowl, and shorebirds. The entire lake would continue to be closed for wintering and migrating birds from October 1 to April 14 each year. An increase in habitat enhancement through invasive species removal and vegetation manipulation is proposed. Increases in wildlife and habitat research and assessments would be focused on providing a strong scientific base for future management decisions.

Under Alternative 4, there are numerous actions which would alter when, where, and how public uses would be allowed on the Lake Lowell Unit. Boating would be allowed at no-wake speeds on all areas of the lake open to the public from April 15 to September 30. Several portions of the Refuge would be closed to all public activity. The Refuge would not be open to nonwildlife-dependent activities including horseback riding, dog walking, or bicycling.

Alternative 4 includes several elements to protect wildlife and enhance the Refuge recreational experience. To minimize conflicts with and improve the quality of the waterfowl hunt program, upland game hunting would no longer be allowed at the Lake Lowell Unit. Waterfowl hunting would be allowed on the south side of the Lake Lowell Unit from Parking Lots 1-8 with a 25-shotgun-shell limit.

Refuge staff would emphasize management of the Snake River Islands by increasing wildlife inventory and monitoring efforts and increasing invasive species control (following the Integrated Pest Management Plan) and restoration efforts. Island management would be prioritized using several factors and managed accordingly. Island closure dates would be adjusted to better protect nesting geese, wading birds, and gulls and terns. An array of management techniques may be used including prescribed fire and aerial application of herbicide and/or seed.

Existing public uses would continue on the Snake River Islands and include wildlife observation and deer, upland and waterfowl hunting on 1,219 acres. Most of the Snake River Islands Unit would be open for off-trail, free-roam activities, including shoreline fishing, from June 15 to January 31. Heron and gull-nesting islands (4-6 islands) would be open for off-trail, free-roam activities from July 1 to January 31.

Public Availability of Documents

In addition to methods in ADDRESSES, you can view or obtain documents at the following locations.

Our Web site: http://www.fws.gov/deerflat/refugeplanning.html.

Caldwell Public Library, 1010 Dearborn St., Caldwell, ID 83605

Homedale Public Library, 125 W Owyhee Ave, Homedale, ID 83628

Lizard Butte District Library, 111 3rd Ave W, Marsing, ID 83639

Nampa Public Library, 101 11th Ave S, Nampa, ID 83651

Payette Public Library, 24 S 10th St., Payette, ID 83661

Ada County District Library, 10664 W Victory Rd, Boise, ID 83709

Submitting Comments

Public comments are requested, considered, and incorporated throughout the planning process; please see DATES for due dates. Comments on the Draft CCP/EIS will be analyzed by the Service and addressed in final planning documents.

Public Availability of Comments

Before including your address, phone number, email address, or other personal identifying information in your comment, you should be aware that your entire comment—including your personal identifying information—may be made publicly available at any time. While you can ask us in your comment to withhold your personal identifying information from public review, we cannot guarantee that we will be able to do so.

Dated: February 7, 2013.
Richard R. Hannan,
Acting Regional Director, Pacific Region, Portland, Oregon.

[FR Doc. 2013-05902 Filed 3-14-13; 8:45 am]

BILLING CODE 4310-55-P